DEPARTMENT OF DEFENSE

GENERAL SERVICES ADMINISTRATION

NATIONAL AERONAUTICS AND SPACE ADMINISTRATION

[OMB Control No. 9000-0189; Docket No. 2018-0003; Sequence No. 17]

Information Collection; Identification of Predecessors

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning identification of predecessors.

DATES: Submit comments on or before November 19, 2018.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0189, Identification of Predecessors.

Instructions: All items submitted must cite Information Collection 9000-0189, Identification of Predecessors. Comments received in response to this docket will be made available for public inspection and posted without change, including any personal information, at http://www.regulations.gov. Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Ms. Cecelia L. Davis, Procurement Analyst, Federal Acquisition Policy Division, at 202-219-0202 or email cecelia.davis@gsa.gov.

SUPPLEMENTARY INFORMATION:

A. Overview of Information Collection

Description of the Information Collection

1. Type of Information Collection: Revision/Renewal of a currently approved collection.

2. Title of the Collection—Identification of Predecessors.

3. Agency form number, if any:— None.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

The Federal Acquisition Regulation (FAR) provision 52.204-20, Predecessor of Offeror, requires each offeror to identify if the offeror is, within the last three years, a successor to another entity that received a Federal Government award and, if so, to provide the Commercial and Government Entity (CAGE) code and legal name of the predecessor. The information on predecessors is used to identify such entities in the Federal Awardee Performance and Integrity Information System (FAPIIS) to allow retrieval of integrity and performance data on the most recent predecessor of an apparent successful offeror to whom award is anticipated. FAR 9.104-6 requires contracting officers to consult FAPIIS before awarding a contract in excess of the simplified acquisition threshold. The information on predecessors is collected on an annual basis for inclusion in the annual representations and certifications in the System for Award Management (SAM) for offerors required to register in SAM. Offerors not required to register in SAM but required to provide the information in the provision at FAR 52.204-20 will do so as specified in the solicitation or instructed by the contracting officer.

C. Annual Reporting Burden

The burden to provide the information required by the FAR provision at 52.204-20 when an offeror is registered in SAM is already covered by OMB Control Number 9000-0159, System for Award Management Registration (SAM). OMB Control Number 9000-0189 now will cover the burden for providing the required information when the offeror is not required to register in SAM in accordance with the exceptions in FAR 4.1102(a). The Federal Procurement Data System (FPDS) for FY 2017 was used to develop the estimated burden hours as shown below:

Respondents: 974.

Responses Per Respondent: 1.

Total Annual Responses: 974.

Hours Per Response: 0.1.

Total Burden Hours: 97.4.

Affected Public: Businesses or other for-profit and not-for-profit institutions.

Obtaining Copies: Requesters may obtain a copy of the information collection documents from the General Services Administration, Regulatory Secretariat Division (MVCB), 1800 F Street NW, Washington, DC 20405, telephone 202-501-4755. Please cite OMB Control No. 9000-0189, Identification of Predecessors, in all correspondence.

Dated: September 13, 2018.
William Clark,
Director, Office of Governmentwide Acquisition Policy, Office of Acquisition Policy, Office of Governmentwide Policy.

[FR Doc. 2018-20299 Filed 9-18-18; 8:45 am]

BILLING CODE 6820-EP-P